DEPARTMENT OF COMMERCE

International Trade Administration

[A-351-838, A-533-840, A-549-822]

Certain Frozen Warmwater Shrimp from Brazil, India, and Thailand: Notice of Initiation of Antidumping Duty Administrative Reviews

AGENCY: Import Administration, International Trade Administration, Department of Commerce.

SUMMARY: The Department of Commerce (Department) received timely requests to conduct administrative reviews of the antidumping duty orders on certain frozen warmwater shrimp (shrimp) from Brazil, India and Thailand. The anniversary month of these orders is February. In accordance with 19 CFR 351.221, we are initiating these administrative reviews.

DATES: Effective Date: April 7, 2010.

FOR FURTHER INFORMATION CONTACT: Rebecca Trainor at (202) 482-4007 (Brazil), Elizabeth Eastwood at (202) 482-3874 (India), and Kate Johnson at (202) 482-4929 (Thailand), AD/CVD Operations, Office 2, Import Administration, International Trade Administration, U.S. Department of Commerce, 14th Street and Constitution Avenue, NW., Washington, DC 20230.

Background

The Department received timely requests from the Ad Hoc Shrimp Trade Action Committee (hereinafter, Domestic Producers), the American Shrimp Processors Association (ASPA), and the Louisiana Shrimp Association (LSA), and certain individual companies, in accordance with 19 CFR 351.213(b), during the anniversary month of February 2010, for administrative reviews of the antidumping duty orders on shrimp from Brazil, India, and Thailand. The Department is now initiating administrative reviews of these orders covering multiple companies for Brazil, India, and Thailand, as noted in the “Initiation of Reviews” section of this notice.

In accordance with the Department's statement in its notice of opportunity to request administrative reviews, we have not initiated administrative reviews with respect to those companies which the Department was unable to locate in prior segments and for which no new information as to the party's location was provided by the requestor (see Antidumping or Countervailing Duty Order, Finding, or Suspended Investigation; Opportunity To Request Administrative Review, 75 FR 5037 (February 1, 2010)). We have also not initiated administrative reviews with respect to those companies we previously determined to be duplicates or no longer exist.

Finally, we have not initiated an administrative review with respect to the following companies requested by the Domestic Producers, the ASPA, and the LSA, because these companies were revoked from the antidumping duty order on certain frozen warmwater shrimp from Thailand as a result of the partial revocation of the order, effective January 16, 2009: Andaman Seafood Co., Ltd., Wales & Co. Universe Limited, Chanthaburi Frozen Food Co., Ltd., Chanthaburi Seafoods Co., Ltd., Intersia Foods Co., Ltd. (formerly Y2K Frozen Foods Co., Ltd.), Phatthana Seafood Co., Ltd., Phatthana Frozen Food Co., Ltd., Thailand Fishery Cold Storage Public Co., Ltd., Thai International Seafood Co., Ltd., S.C.C. Frozen Seafood Co., Ltd., and Sea Wealth Frozen Food Co., Ltd. (collectively, the Rubicon Group); and, Thai I-Mei Frozen Foods Co., Ltd. See Implementation of the Findings of the WTO Panel in United States—Antidumping Measure on Shrimp from Thailand: Notice of Determination Under Section 129 of the Uruguay Round Agreements Act and Partial Revocation of the Antidumping Duty Order on Frozen Warmwater Shrimp from Thailand, 74 FR 5638, 5639 (January 30, 2009); and, Certain Frozen Warmwater Shrimp from Thailand: Final Results of Antidumping Duty Changed Circumstances Review and Notice of Revocation in Part, 74 FR 52452 (October 13, 2009).

Initiation of Reviews

In accordance with section 751(a)(1) of the Tariff Act of 1930, as amended (the Act), we are initiating administrative reviews of the antidumping duty orders on shrimp from Brazil, India and Thailand. We intend to issue the final results of these reviews by February 28, 2011.

Antidumping duty proceeding | Period to be reviewed
BRAZIL Certain Frozen Warmwater Shrimp, A-351-838 | 2/1/09-1/31/10
Amazonas Industria Alimenticias SA
Natal Pesca Ltda.
Railson Pesca e Exportacao Ltd.
Tenda Atacada Ltda.
INDIA Certain Frozen Warmwater Shrimp, A-533-840 | 2/1/09-1/31/10
Abad Fisheries
Accelerated Freeze-Drying Co.
Adani Exports Ltd
Adilakshmi Enterprises
Allana Frozen Foods Pvt. Ltd.
Allansons Ltd.
AMI Enterprises
Amulya Sea Foods
Ananda Aqua Applications/Ananda Aqua Exports (P) Limited/Ananda Foods ³
Anand Aqua Exports
Andaman Seafoods Pvt. Ltd.
Angelique Intl
Anjaneya Seafoods
Anjani Marine Traders
Apex Exports ⁴
Asvini Exports
Asvini Feeds Limited
Asvini Fisheries Private Limited ⁸
Avanti Feeds Limited
Ayshwarya Seafood Private Limited
Baby Marine Exports
Baby Marine International
Baby Marine Sarass
Bhatsons Aquatic Products
Bhavani Seafoods
Bhisti Exports
Bijaya Marine Products
Blue Water Foods & Exports P. Ltd.
Bluefin Enterprises
Bluepark Seafoods Pvt. Ltd.
BMR Exports
Britto Exports
C P Aquaculture (India) Ltd.
Calcutta Seafoods Pvt. Ltd.⁴
Capithan Exporting Co.
Castlerock Fisheries Ltd.
Chemmeens (Regd)
Cherukattu Industries (Marine Div.)
Choice Canning Company
Choice Trading Corporation Private Limited ⁴
Coastal Corporation Ltd.
Cochin Frozen Food Exports Pvt. Ltd.
Coreline Exports
Corlim Marine Exports Pvt. Ltd.
Damco India Private
Devi Fisheries Limited
Devi Marine Food Exports Private Ltd./Kader Exports Private Limited/Kader Investment and Trading Company Private Limited/Liberty Frozen Foods Pvt. Ltd./Liberty Oil Mills Ltd./Premier Marine Products/Universal Cold Storage Private Limited 4, 5
Devi Sea Foods Limited ⁴
Dhanamjaya Impex P. Ltd.
Diamond Seafood Exports/Edhayam Frozen Foods Pvt. Ltd./Kadalkanny Frozen Foods/Theva & Company 4, 6
Digha Seafood Exports
Esmario Export Enterprises
Exporter Coreline Exports
Falcon Marine Exports Limited/K.R. Enterprises4, 7
Five Star Marine Exports Private Limited
Forstar Frozen Foods Pvt. Ltd.
Frigerio Conserva Allana Limited
Frontline Exports Pvt. Ltd.
G A Randerian Ltd.
G.K S Business Associates Pvt. Ltd.
Gadre Marine Exports
Galaxy Maritech Exports P. Ltd.
Gayatri Sea Foods and Feeds Private Ltd.
Gayatri Seafoods
Geo Aquatic Products (P) Ltd.
Geo Seafoods
Grandtrust Overseas (P) Ltd.
GVR Exports Pvt. Ltd.
Haripriya Marine Export Pvt. Ltd.⁴
Harmony Spices Pvt. Ltd.
HIC ABF Special Foods Pvt. Ltd.
Hindustan Lever, Ltd.
Hiravata Ice & Cold Storage
Hiravati Exports Pvt. Ltd.
Hiravati International Pvt. Ltd. (located at APM—Mafco Yard, Sector—18, Vashi, Navi, Mumbai—400 705, India)
Hiravati International Pvt. Ltd. (located at Jawar Naka, Porbandar, Gujarat, 360 575, India)
IFB Agro Industries Ltd.⁴
Indian Aquatic Products
Indo Aquatics
Innovative Foods Limited
International Freezefish Exports
Interseas
ITC Limited, International Business
ITC Ltd.
Jagadeesh Marine Exports
Jaya Satya Marine Exports
Jaya Satya Marine Exports Pvt. Ltd.
Jayalakshmi Sea Foods Private Limited ⁴
Jinny Marine Traders
Jiya Packagings
KNR Marine Exports
K R M Marine Exports Ltd.
K V Marine Exports ⁴
Kalyan Aqua & Marine Exp. India Pvt. Ltd.
Kalyanee Marine
Kay Kay Exports
Kings Marine Products ⁴
Koluthara Exports Ltd.
Konark Aquatics & Exports Pvt. Ltd.
L.G Seafoods
Landauer Ltd. C O Falcon Marine Exports Ltd.
Lewis Natural Foods Ltd.
Libran Cold Storages (P) Ltd.
Lotus Sea Farms
Lourde Exports
Magnum Estates Limited ⁴
Magnum Export
Magnum Sea Foods Limited ⁴
Malabar Arabian Fisheries
Malnad Exports Pvt. Ltd.
Mangala Marine Exim India Pvt. Ltd.
Mangala Sea Products
Marine Exports
Meenaxi Fisheries Pvt. Ltd.
MSC Marine Exporters
MSRDR Exports
MTR Foods
N.C. John & Sons (P) Ltd
Naga Hanuman Fish Packers
Naik Frozen Foods
Naik Seafoods Ltd.
Navayuga Exports Ltd.
Nekkanti Sea Foods Limited
NGR Aqua International
Nila Sea Foods Pvt. Ltd.
Nine Up Frozen Foods
Overseas Marine Export
Penver Products (P) Ltd.
Pijikay International Exports P Ltd.
Pisces Seafood International
Premier Seafoods Exim (P) Ltd.
R V R Marine Products Private Limited ⁴
Raa Systems Pvt. Ltd.
Raju Exports
Ram's Assorted Cold Storage Ltd.⁴
Raunaq Ice & Cold Storage
Raysons Aquatics Pvt. Ltd.
Razban Seafoods Ltd.
RBT Exports
RDR Exports
Riviera Exports Pvt. Ltd.
Rohi Marine Private Ltd.
Royal Cold Storage India P Ltd.
S & S Seafoods
S. A. Exports
S Chanchala Combines
Safa Enterprises
Sagar Foods
Sagar Grandhi Exports Pvt. Ltd.
Sagarvihar Fisheries Pvt. Ltd.
SAI Marine Exports Pvt. Ltd.⁴
SAI Sea Foods ⁴
Sanchita Marine Products P Ltd
Sandhya Aqua Exports
Sandhya Aqua Exports Pvt. Ltd.
Sandhya Marines Limited
Santhi Fisheries & Exports Ltd.
Satya Seafoods Private Limited
Sawant Food Products
Seagold Overseas Pvt. Ltd.
Selvam Exports Private Limited
Sharat Industries Ltd.
Shimpo Exports
Shippers Exports
Shroff Processed Food & Cold Storage P Ltd.
Silver Seafood
Sita Marine Exports
SLS Exports Pvt. Ltd.
Sprint Exports Pvt. Ltd.⁴
Sri Chandrakantha Marine Exports ⁴
Sri Sakkthi Cold Storage
Sri Sakthi Marine Products P Ltd.
Sri Satya Marine Exports
Sri Venkata Padmavathi Marine Foods Pvt. Ltd.
Srikanth International
Srikanth International Agri Exports & Imports
SSF Ltd.
Star Agro Marine Exports
Star Agro Marine Exports Private Limited
Sterling Foods
Sun-Bio Technology Ltd.
Supreme Exports
Surya Marine Exports
Suryamitra Exim (P) Ltd.
Suvarna Rekha Exports Private Limited
Suvarna Rekha Marines P Ltd.
TBR Exports Pvt Ltd.
Teekay Marine P. Ltd.⁴
Tejaswani Enterprises
The Waterbase Ltd.
Triveni Fisheries P Ltd.
Unitriveni Overseas
Usha Seafoods
V.S Exim Pvt Ltd.
Vaibhav Sea Foods
Veejay Impex
Veeteejay Exim Pvt., Ltd.
Victoria Marine & Agro Exports Ltd.
Vijayalaxmi Seafoods
Vinner Marine
Vishal Exports
Wellcome Fisheries Limited
West Coast Frozen Foods Private Limited
THAILAND Certain Frozen Warmwater Shrimp, A-549-822 | 2/1/09-1/31/10
A. Wattanachai Frozen Products Co., Ltd.
A.S. Intermarine Foods Co., Ltd.
ACU Transport Co., Ltd.
American Commercial Transport (Thailand)
Ampai Frozen Food Co., Ltd.
Apex Maritime (Thailand) Co., Ltd.⁹
Apex Maritime Thailand ⁹
Asian Seafoods Coldstorage Public Co., Ltd./Asian Seafoods Coldstorage (Suratthani) Co./STC Foodpak Ltd.
Assoc. Commercial Systems
B.S.A. Food Products Co., Ltd.
Bangkok Dehydrated Marine Product Co., Ltd.
Best Fruits
Bright Sea Co., Ltd.
C.P. Merchandising Co., Ltd.
C Y Frozen Food Co., Ltd.
Calsonic Kansei (Thailand) Co., Ltd.
Century Industries Co., Ltd.
Chaivaree Marine Products Co., Ltd.
Chaiwarut Co., Ltd.
Charoen Pokphand Foods Public Co., Ltd.
Chue Eie Mong Eak
Conair Intertraffic Co., Ltd.
Core Seafood Processing Co., Ltd.
Crystal Frozen Foods Co., Ltd. and/or Crystal Seafood
Daedong (Thailand) Co. Ltd.
Daiei Taigen (Thailand) Co., Ltd.
Daiho (Thailand) Co., Ltd.
Dextrans Worldwide (Thailand) Ltd.
Dragon International Furniture Co., Ltd.
Earth Food Manufacturing Co., Ltd.
Enburg Food Thai Co., Ltd.
Extra Maritime Co., Ltd.
F.A.I.T. Corporation Limited
Far East Cold Storage Co., Ltd.
Findus (Thailand) Ltd.
Fortune Frozen Foods (Thailand) Co., Ltd.
Frozen Marine Products Co., Ltd.
Fujitsu General (Thailand) Co., Ltd.
Gallant Ocean (Thailand) Co., Ltd./Gallant Seafoods Corporation
Golden Sea Frozen Foods Co., Ltd.
Good Fortune Cold Storage Co., Ltd.
Good Luck Product Co., Ltd.
Great Food (Dehydration) Co., Ltd.
Grobest Frozen Foods Co., Ltd.
Gulf Coast Crab Intl.
H.A.M. International Co., Ltd.
Heng Seafood Limited Partnership
Herba Bangkok S.L.
Heritrade Co., Ltd.
HIC (Thailand) Co., Ltd.
I.T. Foods Industries Co., Ltd.
Inter-Furnitech Co., Ltd.
Inter-Oceanic Resources Co., Ltd.
Inter-Pacific Marine Products Co., Ltd.
Inter-Taste Foods Co., Ltd.
K Fresh
K. D. Trading Co., Ltd.
KF Foods
K.L. Cold Storage Co., Ltd.
K & U Enterprise Co., Ltd.
Kiang Huat Sea Gull Trading Frozen Food Public Co., Ltd.
Kingfisher Holdings Ltd.
Kibun Trdg
Klang Co., Ltd.
Kitchens of the Ocean (Thailand) Ltd.
Kongphop Frozen Foods Co., Ltd.
Kosamut Frozen Foods Co., Ltd.
Lee Heng Seafood Co., Ltd.
Leo Transports
Maersk Line
Magnate & Syndicate Co., Ltd.
Mahachai Food Processing Co., Ltd.
Marine Gold Products Co., Ltd.
May Ao Co., Ltd./May Ao Foods Co., Ltd.
Meyer Industries Ltd.
Namprik Maesri Ltd. Part.
Narong Seafood Co., Ltd.
National Starch and Chemical Thailand Ltd.
Noble Marketing Co., Ltd.
NR Instant Produce Co., Ltd.
Oki Data Manufacturing (Thailand) Co., Ltd.
Ongkorn Cold Storage Co., Ltd./Thai-Ger Marine Co., Ltd.
Orion Electric Co., Ltd.
Pacific Queen Co., Ltd.
Pakfood Public Company Limited/Asia Pacific (Thailand) Co., Ltd./Chaophraya Cold Storage Co., Ltd./Okeanos Co. Ltd./Okeanos Food Co. Ltd./Takzin Samut Co., Ltd.¹⁰
Penta Impex Co., Ltd.
Pinwood Nineteen Ninety Nine
Pioneer Manufacturing (Thailand) Co., Ltd.
Piti Seafoods Co., Ltd.
Premier Frozen Products Co., Ltd.
Preserved Food Specialty Co., Ltd.
Protainer International Co., Ltd.
Queen Marine Food Co., Ltd.
Rayong Coldstorage (1987) Co., Ltd.
S&D Marine Products Co., Ltd.
S&P Aquarium
S&P Syndicate Public Company Ltd.
S. Chaivaree Cold Storage Co., Ltd.
S. Khonkaen Food Industry Public Co., Ltd. and/or S. Khonkaen Food Ind Public
SMP Foods Products Co., Ltd.
Samui Foods Company Limited
Sea Bonanza Food Co., Ltd.
Seafoods Enterprise Co., Ltd.
Seafresh Fisheries/Seafresh Industry Public Co., Ltd.
Siam Food Supply Co., Ltd.
Siam Intersea Co., Ltd.
Siam Marine Products Co. Ltd.
Siam Marine Frozen Foods Co., Ltd.
Siam Ocean Frozen Foods Co. Ltd.
Siam Union Frozen Foods
Siamchai International Food Co., Ltd.
Smile Heart Foods Co. Ltd.
Southport Seafood Company Limited
Suntechthai Intertrading Co., Ltd.
Surapon Nichirei Foods Co., Ltd.
Surapon Seafoods Public Co., Ltd./Surapon Foods Public Co., Ltd./Surat Seafoods Co., Ltd.
Suratthani Marine Products Co., Ltd.
Suree Interfoods Co., Ltd.
T.H.I. Group (Bangkok) Co., Ltd.
T.P. Food Canning Ltd., Part.
T.S.F. Seafood Co., Ltd.
Tanaya International Co., Ltd.
Tanaya Intl.
Teppitak Seafood Co., Ltd.
Tey Seng Cold Storage Co., Ltd.
Tep Kinsho Foods Co., Ltd.
Thai Agri Foods Public Co., Ltd.
Thai Frozen Foods Co., Ltd.
Thai Lee Agriculture Co., Ltd.
Thai Mahachai Seafood Products Co., Ltd.
Thai Ocean Venture Co., Ltd.
Thai Onono Public Co., Ltd.
Thai Patana Frozen
Thai Prawn Culture Center Co., Ltd.
Thai Royal Frozen Food Co. Ltd.
Thai Spring Fish Co., Ltd.
Thai Union Frozen Products Public Co., Ltd./Thai Union Seafood Co., Ltd.¹¹
Thai Union Manufacturing Co., Ltd. and/or Thai Union Mfg
Thai World Imp & Exp Co.
Thai Yoo Ltd., Part.
Thaveevong Industry Co., Ltd.
The Siam Union Frozen Foods Co., Ltd.
The Union Frozen Products Co., Ltd.
Trang Seafood Products Public Co., Ltd.
Transamut Food Co., Ltd.
Tung Lieng Trdg
United Cold Storage Co., Ltd.
V Thai Food Product
Wann Fisheries Co., Ltd.
Xian-Ning Seafood Co., Ltd.
Yeenin Frozen Foods Co., Ltd.
YHS Singapore Pte
ZAFCO TRDG
³ In the 2007-2008 administrative review, the Department found that the following companies comprised a single entity: Ananda Aqua Exports (P) Ltd., Ananda Foods, and Ananda Aqua Applications. See Certain Frozen Warmwater Shrimp From India: Preliminary Results and Preliminary Partial Rescission of Antidumping Duty Administrative Review, 74 FR 9991, 9994 (Mar. 9, 2009) (2007-2008 Indian Shrimp Preliminary Results). Absent information to the contrary, we intend to treat these companies as a single entity for purposes of this administrative review.
⁴ The interested parties' requests for review included certain companies with similar names and/or addresses. For purposes of initiation, we have treated these companies as the same entity based on information obtained in the 2004-2006, 2006-2007, 2007-2008, or 2008-2009 administrative review. See the March 29, 2010, memorandum from Holly Phelps to the File entitled, “Placing Public Information from the 2004-2006, 2006-2007, 2007-2008, and 2008-2009 Antidumping Duty Administrative Reviews on the Record of the 2009-2010 Antidumping Duty Administrative Review on Certain Frozen Warmwater Shrimp from India.”
⁵ In the 2004-2006 administrative review, the Department found that the following companies comprised a single entity: Devi Marine Food Exports Private Limited, Kader Investment and Trading Company Private Limited, Kader Exports Private Limited, Liberty Frozen Foods Private Limited, Liberty Oil Mills Limited, Premier Marine Products, and Universal Cold Storage Private Limited. See Certain Frozen Warmwater Shrimp from India: Final Results and Partial Rescission of Antidumping Duty Administrative Review, 72 FR 52055, 52058 (Sept. 12, 2007). Absent information to the contrary, we intend to continue to treat these companies as a single entity for purposes of this administrative review.
⁶ In the 2006-2007 administrative review, the Department found that the following companies comprised a single entity: Diamond Seafoods Exports, Edhayam Frozen Foods Pvt. Ltd., Kadalkanny Frozen Foods, and Theva & Company. See Certain Frozen Warmwater Shrimp from India: Preliminary Results and Preliminary Partial Rescission of Antidumping Duty Administrative Review, 73 FR 12103, 12106 (Mar. 6, 2008), unchanged in Certain Frozen Warmwater Shrimp From India: Final Results and Partial Rescission of Antidumping Duty Administrative Review, 73 FR 40492 (July 15, 2008) (2006-2007 Indian Shrimp Final Results). Absent information to the contrary, we intend to continue to treat these companies as a single entity for purposes of this administrative review.
⁷ In the 2007-2008 administrative review, the Department found that the following companies comprised a single entity: Falcon Marine Exports Limited and K.R. Enterprises. See 2007-2008 Indian Shrimp Preliminary Results, 74 FR at 9994, unchanged in Certain Frozen Warmwater Shrimp From India: Final Results and Partial Rescission of Antidumping Duty Administrative Review, 74 FR 33409 (July 13, 2009). Absent information to the contrary, we intend to continue to treat these companies as a single entity for purposes of this administrative review.
⁸ In the 2007-2008 administrative review, the Department found that Asvini Fisheries Private Limited is the successor-in-interest to Asvini Fisheries Limited. See 2006-2007 Indian Shrimp Final Results, 73 FR at 40493.
⁹ The requests for review included certain companies with similar names but different addresses. For purposes of initiation, we have treated these companies as separate entities.
¹⁰ In the 2007-2008 administrative review, the Department found that the following companies comprised a single entity: Pakfood Public Company Limited, Asia Pacific (Thailand) Co., Ltd., Chaophraya Cold Storage Co. Ltd., Okeanos Co. Ltd., Okeanos Food Co. Ltd., and Takzin Samut Co. Ltd. See Certain Frozen Warmwater Shrimp from Thailand: Final Results and Partial Rescission of Antidumping Duty Administrative Review, 74 FR 47551 (September 16, 2009), and accompanying Issues and Decision memorandum at Comment 6. Absent information to the contrary, we intend to continue to treat these companies as a single entity for purposes of this administrative review.
¹¹ In the 2006-2007 administrative review, the Department found that the following companies comprised a single entity: Thai Union Frozen Products Co., Ltd. and Thai Union Seafood Co., Ltd. See Certain Frozen Warmwater Shrimp from Thailand: Preliminary Results and Preliminary Partial Rescission of Antidumping Duty Administrative Review, 73 FR 12088 (Mar. 6, 2008), unchanged in Certain Frozen Warmwater Shrimp from Thailand: Final Results and Final Partial Rescission of Antidumping Duty Administrative Review, 73 FR 50933 (August 29, 2008). Absent information to the contrary, we intend to continue to treat these companies as a single entity for purposes of this administrative review.

Notice of No Sales

Under 19 CFR 351.213(d)(3), the Department may rescind a review where there are no exports, sales, or entries of subject merchandise during the period of review (POR). If a producer or exporter named in this notice of initiation had no exports, sales, or entries during the POR, it should notify the Department within 30 days of publication of this notice in the Federal Register. The Department will consider rescinding the review only if the producer or exporter, as appropriate, submits a properly filed and timely statement certifying that it had no exports, sales, or entries of merchandise during the POR. All submissions must be made in accordance with 19 CFR 351.303 and are subject to verification in accordance with section 782(i) of the Act. Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (CBP) data for U.S. imports during the POR. We intend to release the CBP data under Administrative Protective Order (APO) to all parties having an APO within five days of publication of this initiation notice and to make our decision regarding respondent selection within 20 days of publication of this Federal Register notice. The Department invites comments regarding the CBP data and respondent selection within 10 calendar days of publication of this Federal Register notice.

Interested parties must submit applications for disclosure under APO in accordance with 19 CFR 351.305. Instructions for filing such applications may be found on the Department's web site at http://ia.ita.doc.gov/apo.

This initiation and notice are in accordance with section 751(a)(1) of the Act and 19 CFR 351.221(c)(1)(i).

Dated: March 31, 2010.
John M. Andersen,
Acting Deputy Assistant Secretary for Antidumping and Countervailing Duty Operations.

[FR Doc. 2010-7917 Filed 4-6-10; 8:45 am]

BILLING CODE 3510-DS-P